DEPARTMENT OF TRANSPORTATION

Federal Railroad Administration

Proposed Agency Information Collection Activities; Comment Request

AGENCY: Federal Railroad Administration, DOT.

ACTION: Third notice and request for comments.

SUMMARY: In compliance with the Paperwork Reduction Act of 1995 (44 U.S.C. 3501 et seq.), this notice announces that the Information Collection Requirements (ICRs) abstracted below have been forwarded to the Office of Management and Budget (OMB) for review and comment. The ICRs describes the nature of the information collections and their expected burdens. The Federal Register notice with a 60-day comment period soliciting comments on the following collection of information was published on September 22, 2004 (69 FR 56819). An earlier Federal Register notice with a 30-day comment period soliciting comments on the following collection of information was published on December 2, 2004 (69 FR 70167).

DATES: Comments must be submitted on or before June 3, 2005.

FOR FURTHER INFORMATION CONTACT: Mr. Robert Brogan, Office of Planning and Evaluation Division, RRS-21, Federal Railroad Administration, 1120 Vermont Ave., NW., Mail Stop 17, Washington, DC 20590 (telephone: (202) 493-6292), or Mr. Victor Angelo, Office of Support Systems, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On September 22, 2004, FRA published a 60-day notice in the Federal Register soliciting comment on ICRs that the agency was seeking OMB approval. 69 FR 56819. FRA received two comments after issuing this notice. On December 2, 2004, FRA published a first 30-day notice in the Federal Register soliciting comment on ICRs that the agency was seeking OMB approval. 69 FR 70167. FRA received no comments in response to this notice. Because of delays in providing information regarding the methodology of the proposed collection of information to the Bureau of Transportation Statistics (BTS) and to the Office of the Chief Information Officer (CIO) in U.S. Department of Transportation, FRA is publishing this second 30-day notice to provide another opportunity for timely comment.

In response to the 60-day notice, the first comment (letter) came from The Brotherhood of Locomotive Engineers and Trainmen (BLET), which represents both locomotive engineers and trainmen. BLET expressed its wholehearted support for the proposed study. In his letter, Don M. Hahs, the President of BLET, observed:

BLET, and others, believe the collection of this data will provide greater insight into the probability of safety related injury associated with these [critical incident] events. Given the fact that the frequency of these events may result in locomotive engineers experiencing several of them in their careers, the FRA and industry can be benefited in understanding the scope of this concern. The proposed data collection and purpose for which it is being collected can provide non-regulatory and preemptive approaches that may mitigate the negative effects to safety and health associated with Post-Traumatic Stress.

Mr. M. Hahs further remarked:

The identification of “best practices” for Critical Incident Stress Debriefing programs, as proposed in the study, will allow the transportation community to learn a great deal. The eventual publication of the study has the potential to add to the body of research of this recognized problem and will add value for the scientific community with no burden to the society at large. Therefore, the BLET encourages FRA to move forward with the proposed study and seek approval from the Office of Management and Budget as soon as possible.

BLET did address the paperwork burden for this proposed collection of information. Mr. Hahs noted: “BLET considers the estimates of the burden of information collection activities, its methodologies, and assumptions to be valid.”

The Union Pacific Railroad also expressed its support for the project. In his comment (letter), Dr. Dennis W. Holland, Director, Occupational Health Psychology, Union Pacific Safety Department, stated the following:

The study is timely and of significant interest to the rail industry. UPRR is a pioneer in the development and implementation of Peer Support programs for employees involved in critical incidents. We believe the proposed study will benefit both the railroads and railroad labor by providing information on how best to respond to critical incidents. In addition, the information provided by the proposed study will enable railroad professionals to best use resources to assist employees dealing with tragic events.

There is no cost for materials to study participants, and the total burden hours are minimal. It should also be noted that FRA and its contractor, University of Denver, have been in contact with representatives of the Association of American Railroads (AAR), the BLET, and the United Transportation Union (UTU) from the beginning concerning the need for this study and the proposed procedures. These representatives have made several useful suggestions, which have been incorporated into the design of this study. Several useful suggestions were also provided, and used, by members of the CISD resource group—an entity established to assist in the development of this study. This resource group consists of representatives from the AAR, BLE, UTU, and several Class I and short line carriers. Finally, a team of epidemiologists and statisticians from reputable universities and establishments, including Yale University, the University of California at San Francisco, Colorado State University (Fort Collins), the University of Denver, the Denver VA Medical Center, the Centers for Disease Control and Prevention, and individuals from the U.S. Department of Transportation's Volpe National Transportation Systems Center, reviewed the sampling plan of the proposed study and offered useful recommendations and feedback.

Before OMB decides whether to approve this proposed collection of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describe the nature of the information collection requirements (ICRs) and the expected burden. These requirements are being submitted for clearance by OMB as required by the PRA.

Title: Post-Traumatic Stress in Train Crew Members After a Critical Incident.

OMB Control Number: 2130-NEW.

Type of Request: Approval of a New Collection of Information.

Affected Public: Train Crew Members (Locomotive engineers, firers, and conductors).

Form(s): FRA F 6180.120; FRA F 6180.121; FRA F 6180.122.

Abstract: Nearly 1,000 fatalities occur every year in this country from trains striking motor vehicles at grade crossings and individual trespassers along the track. These events can be very traumatic to train crew members, who invariably are powerless to prevent such collisions. Exposure of train crews to such work-related traumas can cause extreme stress and result in safety-impairing behaviors, such as are seen in Post-Traumatic Stress Disorder or Acute Stress Disorder. Most railroads have Critical Incident Stress Debriefing (CISD) intervention programs designed to mitigate problems caused by exposure to these traumas. However, they are quite varied in their approach, and it is not certain which components of these programs are most effective. The purpose of this collection of information is to identify “best practices” for CISD programs in the railroad industry. By means of written and subsequent oral interviews with train crew members that will each take approximately 45 minutes, the proposed study aims to accomplish the following: (1) Benchmark rail industry best practices of CISD programs; (2) establish the extent of traumatic stress disorders due to grade crossing and trespasser incidents in the rail industry (not by region or railroad) and identify at-risk populations; and (3) evaluate the effectiveness of individual components of CISD programs. It should be noted that only the components of CISD programs will be evaluated, not an individual railroad's overall intervention program.

Annual Estimated Burden Hours: 2,043 hours.

ADDRESSES: Send comments regarding these information collections to the Office of Information and Regulatory Affairs, Office of Management and Budget, 725 Seventeenth Street, NW., Washington, DC, 20503, Attention: FRA Desk Officer.

Comments are invited on the following: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on April 28, 2005.
D.J. Stadtler,
Director, Office of Budget, Federal Railroad Administration.

[FR Doc. 05-8823 Filed 5-3-05; 8:45 am]

BILLING CODE 4910-06-P